NATIONAL AERONAUTICS AND SPACE ADMINISTRATION

[Notice: (16-029)]

Applied Sciences Advisory Committee; Meeting Cancellation

AGENCY: National Aeronautics and Space Administration.

ACTION: Notice of cancellation of meeting.

REF: Federal Register/Vol. 81, No. 56/Wednesday, March 23, 2016, 15573 [Notice: (16-024)]

SUMMARY: In accordance with the Federal Advisory Committee Act, Public Law 92-463, as amended, the National Aeronautics and Space Administration (NASA) announces the cancellation of the previously announced meeting of the Applied Sciences Advisory Committee (ASAC). The meeting was originally announced in the Federal Register on March 23, 2016. The meeting is being cancelled by NASA due to technical reasons. The meeting will be rescheduled for a future date (to be determined).

FOR FURTHER INFORMATION CONTACT: Ms. Ann Delo, Science Mission Directorate, NASA Headquarters, Washington, DC 20546, (202) 358-0750, fax (202) 358-2779, or ann.b.delo@nasa.gov.

SUPPLEMENTARY INFORMATION: The meeting was originally announced as NASA Notice 16-024 in the Federal Register on Wednesday, March 23, 2016 (Federal Register/Vol. 81, No. 56, 15573). The meeting had been scheduled to be held on Tuesday, April 19, 2016, 11:00 a.m.-2:00 p.m.; Eastern Daylight Time (EDT), via teleconference. This meeting will be rescheduled for a future date and time. A separate Federal Register Notice will be published to announce the rescheduled date, time, agenda, and contact information.

Patricia D. Rausch,
Advisory Committee Management Officer, National Aeronautics and Space Administration.

[FR Doc. 2016-08669 Filed 4-14-16; 8:45 am]

BILLING CODE 7510-14-P